DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims (the Court) is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Due to an administrative error, publication of the notice covering February 2019 was delayed. Set forth below is a list of petitions received by HRSA on February 1, 2019, through February 28, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: June 21, 2019.
George Sigounas,
Administrator.

List of Petitions Filed

1. Tanja Wagner and Scott Wagner on behalf of S.W., Phoenix, Arizona, Court of Federal Claims No: 19-0188V

2. Rebecca E. Wood, Wenatchee, Washington, Court of Federal Claims No: 19-0189V

3. Julianna Barmasse, Cheektowaga, New York, Court of Federal Claims No: 19-0190V

4. Curtis Devlin, Pittsburgh, Pennsylvania, Court of Federal Claims No: 19-0191V

5. Janell Ward, Reno, Nevada, Court of Federal Claims No: 19-0192V

6. Trudy Schneidermann, Luverne, Minnesota, Court of Federal Claims No: 19-0193V

7. Michelle Leftwich, New York, New York, Court of Federal Claims No: 19-0194V

8. Stephen Stolec, Deerfield Beach, Florida, Court of Federal Claims No: 19-0195V

9. Ernestine Harris, Houston, Texas, Court of Federal Claims No: 19-0197V

10. Arnold Leo Comeau, Jr. Alamogordo, New Mexico, Court of Federal Claims No: 19-0198V

11. Deborah Ann Jones, Columbus, Georgia, Court of Federal Claims No: 19-0200V

12. Douglas Porter, Omaha, Nebraska, Court of Federal Claims No: 19-0201V

13. Garland Rucker, Salina, Kansas, Court of Federal Claims No: 19-0204V

14. Nanci Hohn, Loves Park, Illinois, Court of Federal Claims No: 19-0205V

15. Dominic Setaro, Jr., Leesburg, Florida, Court of Federal Claims No: 19-0207V

16. Sammy Satterwhite, Longview, Texas, Court of Federal Claims No: 19-0208V

17. Jeanne Tilley, Charlotte, North Carolina, Court of Federal Claims No: 19-0210V

18. Odilon M. Miranda, Irving, Texas, Court of Federal Claims No: 19-0211V

19. Sheldon Finkelstein, Lewes, Delaware, Court of Federal Claims No: 19-0212V

20. Scheila Leslie, Burlington, Kentucky, Court of Federal Claims No: 19-0215V

21. Judy H. Brintle, Greensboro, North Carolina, Court of Federal Claims No: 19-0217V

22. Daneara Johnson and David Johnson on behalf of Z.J., Rochester, New York, Court of Federal Claims No: 19-0218V

23. Sandy Ginsberg, Copiague, New York, Court of Federal Claims No: 19-0222V

24. Olga Davydova, Washington, Illinois, Court of Federal Claims No: 19-0223V

25. Geoffrey Griffis, Washington, District of Columbia, Court of Federal Claims No: 19-0224V

26. Joseph Mireles, West Des Moines, Iowa, Court of Federal Claims No: 19-0225V

27. Robert Juranek, Springfield, Illinois, Court of Federal Claims No: 19-0226V

28. Coyt M. Karriker, China Grove, North Carolina, Court of Federal Claims No: 19-0227V

29. Christal Dolan, Wesley Chapel, Florida, Court of Federal Claims No: 19-0228V

30. Tammy Morton Webb, Charleston, South Carolina, Court of Federal Claims No: 19-0229V

31. Lynn Rezek, Wellesley Hills, Massachusetts, Court of Federal Claims No: 19-0230V

32. Vera Leftridge, Flossmoor, Illinois, Court of Federal Claims No: 19-0232V

33. Kristina Aycock, Gastonia, North Carolina, Court of Federal Claims No: 19-0235V

34. Bonnie Dorr, The Villages, Florida, Court of Federal Claims No: 19-0237V

35. Amy Faulkenberry on behalf of W.C F., Magnolia Springs, Alabama, Court of Federal Claims No: 19-0238V

36. Mary Herron, Bannockburn, Illinois, Court of Federal Claims No: 19-0240V

37. Tauntanisha Ragland, North Brunswick, New Jersey, Court of Federal Claims No: 19-0241V

38. Monica Londono, East Greenwich, Rhode Island, Court of Federal Claims No: 19-0243V

39. Sandra Marin, Mansfield, Texas, Court of Federal Claims No: 19-0246V

40. Nathan Bastien, East Providence, Rhode Island, Court of Federal Claims No: 19-0247V

41. Ro Rohlfs, Eden, Wisconsin, Court of Federal Claims No: 19-0248V

42. Jefferson Salazar Giraldo, Woodhaven, New York, Court of Federal Claims No: 19-0249V

43. Lisa Brown, Atlanta, Georgia, Court of Federal Claims No: 19-0250V

44. Donna Clayton, Spartanburg, South Carolina, Court of Federal Claims No: 19-0251V

45. Melanie Ickes, Miami, Florida, Court of Federal Claims No: 19-0252V

46. Mikayla Luzecky, Tallahassee, Florida, Court of Federal Claims No: 19-0254V

47. Scott Scheffler, LaGrange, Kentucky, Court of Federal Claims No: 19-0260V

48. Katherine Ciccarelli and Joseph Ciccarelli on behalf of J.C. San Diego, California, Court of Federal Claims No: 19-0261V

49. Tristen Horton, Gainesville, Florida, Court of Federal Claims No: 19-0262V

50. Jenifer Rytel on behalf of J.R., Oregon City, Oregon, Court of Federal Claims No: 19-0263V

51. Korin Drilling, Traverse City, Michigan, Court of Federal Claims No: 19-0264V

52. Earl J. Smith, San Diego, California, Court of Federal Claims No: 19-0266V

53. Rene M. Cundra, Webster, New York, Court of Federal Claims No: 19-0267V

54. Stacy Shelton, St. Louis, Missouri, Court of Federal Claims No: 19-0268V

55. Cherylun Andrews, Wareham, Massachusetts, Court of Federal Claims No: 19-0271V

56. Robert Meyers, Rochester, New York, Court of Federal Claims No: 19-0272V

57. Susan Cook, Woonsocket, Rhode Island, Court of Federal Claims No: 19-0274V

58. Scott Everhart, Telluride, Colorado, Court of Federal Claims No: 19-0275V

59. Julie Drumm, Washington, District of Columbia, Court of Federal Claims No: 19-0276V

60. Daisy McCray, Charlotte, North Carolina, Court of Federal Claims No: 19-0277V

61. Christopher Dawson, Portage, Wisconsin, Court of Federal Claims No: 19-0278V

62. Gail Shelton, Charleston, North Carolina, Court of Federal Claims No: 19-0279V

63. Manita Mills, New York, New York, Court of Federal Claims No: 19-0281V

64. Clara Fitzgerald, Washington, District of Columbia, Court of Federal Claims No: 19-0282V

65. Tracy Jones, Oklahoma City, Oklahoma, Court of Federal Claims No: 19-0283V

66. Vanessa Gamez, Brownsville, Texas, Court of Federal Claims No: 19-0285V

67. Mary Cressell, Martinsville, Virginia, Court of Federal Claims No: 19-0286V

68. Judith Walters, St. Cloud, Minnesota, Court of Federal Claims No: 19-0287V

69. Augustine Spruill, Boston, Massachusetts, Court of Federal Claims No: 19-0288V

70. Emily Baker on behalf of L.M.B., Indianapolis, Indiana, Court of Federal Claims No: 19-0289V

71. Mark A. Jakubowski, Nashville, Tennessee, Court of Federal Claims No: 19-0291V

72. William Orth, Boston, Massachusetts, Court of Federal Claims No: 19-0293V

73. Becky Bangs, Portland, Oregon, Court of Federal Claims No: 19-0295V

74. Gary Curtis, Moscow, Idaho, Court of Federal Claims No: 19-0296V

75. Shelley E. Shlapak, Yorktown, Georgia, Court of Federal Claims No: 19-0297V

76. Sonya Sims-Caldwell, Mobile, Alabama, Court of Federal Claims No: 19-0298V

77. Jenifer Tatlow, Washington, District of Columbia, Court of Federal Claims No: 19-0299V

78. Ryan Farrell, Washington, District of Columbia, Court of Federal Claims No: 19-0301V

79. Heather A. Chasman on behalf of Stephen Burritt, Hilton, New York, Court of Federal Claims No: 19-0302V

80. Bay J. Scroggins, Raleigh, North Carolina, Court of Federal Claims No: 19-0303V

81. Stacey Stephens Pollock, Boston, Massachusetts, Court of Federal Claims No: 19-0305V

82. Gail R. Zuvich, San Pedro, California, Court of Federal Claims No: 19-0306V

83. Susana V. Welsh, Williamsburg, Virginia, Court of Federal Claims No: 19-0307V

84. Kathryn Oaks and Luke Oaks on behalf of R.O., Lubbock, Texas, Court of Federal Claims No: 19-0309V

85. Marissa Missan, Newark, Delaware, Court of Federal Claims No: 19-0311V

86. Larry Lemmonds, Snellville, Georgia, Court of Federal Claims No: 19-0312V

87. David McKnight, Greensboro, North Carolina, Court of Federal Claims No: 19-0313V

88. Ronda Brum Smith, Camarillo, California, Court of Federal Claims No: 19-0314V

89. Christopher Van Scoy, South Windsor, Connecticut, Court of Federal Claims No: 19-0318V

90. Shari Baelfyr, Sacramento, California, Court of Federal Claims No: 19-0319V

91. Mary Mullins on behalf of K.M., Williamsville, New York, Court of Federal Claims No: 19-0320V

92. Steven Vinueza, Everett, Washington, Court of Federal Claims No: 19-0324V

[FR Doc. 2019-13754 Filed 6-26-19; 8:45 am]

BILLING CODE 4165-15-P